DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were removed from Clallam County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by American Museum of Natural History professional staff in consultation with representatives of the Jamestown S'Klallam Tribe of Washington; Lower Elwha Tribal Community of the Lower Elwha Reservation, Washington; Lummi Tribe of the Lummi Reservation, Washington; Nooksack Indian Tribe of Washington; Port Gamble Indian Community of the Port Gamble Reservation, Washington; Samish Indian Tribe, Washington; Stillaguamish Tribe of Washington; Swinomish Indians of the Swinomish Reservation, Washington; Tulalip Tribes of the Tulalip Reservation, Washington; and Upper Skagit Indian Tribe of Washington.

In 1899, human remains representing a minimum of 64 individuals were removed from the surface of a sand spit in Dungeness, Clallam County, WA, by Harlan I. Smith during the Jesup North Pacific Expedition directed by Franz Boas of the American Museum of Natural History. No known individuals were identified. The 27 associated funerary objects are 1 dentalia shell bead, 2 shell pendants, 2 shell pieces, 1 harpoon barb, 20 pieces of animal bone, and 1 pestle.

Based on manner of interment, the presence of cranial shaping, and type of funerary objects present, the human remains have been identified as Native American. Geographic location is consistent with the postcontact territory of S'Klallam people. A postcontact S'Klallam village was located near Dungeness. Some of the graves were covered with boards fastened together with iron nails. The use of sand spits and wood boxes for burial is consistent with postcontact S'Klallam practice.

In 1899, human remains representing a minimum of 85 individuals were removed from the surface of a bluff in Dungeness, Clallam County, WA, by Harlan I. Smith during the Jesup North Pacific Expedition. No known individuals were identified. No associated funerary objects are present.

Based on manner of interment, the human remains have been identified as Native American. The individuals were collected from the surface, which might indicate a relatively recent age consistent with canoe or scaffold-type burials. Geographic location is consistent with the postcontact territory of the S'Klallam. A postcontact S'Klallam village was located near Dungeness. The use of canoe or box burials, which might result in such a surface assemblage, is consistent with postcontact S'Klallam practice.

In 1899, human remains representing a minimum of three individuals were removed from a shell heap in Dungeness, Clallam County, WA, by Harlan I. Smith during the Jesup North Pacific Expedition. No known individuals were identified. No associated funerary objects are present.

Based on manner of interment and the presence of cranial shaping, the human remains have been identified as Native American. The collector indicated that the human remains are likely to be of recent age. Geographic location is consistent with the postcontact territory of the S'Klallam. The use of sand spits for burial is consistent with postcontact S'Klallam practice. A postcontact S'Klallam village was located near Dungeness.

In 1899, human remains representing a minimum of 238 individuals were removed from the surface of a sand spit in Port Williams, Clallam County, WA, by Harlan I. Smith during the Jesup North Pacific Expedition. No known individuals were identified. The one associated funerary object is a pestle.

Based on manner of interment, presence of cranial shaping, and type of funerary object present, the human remains have been identified as Native American. Geographic location is consistent with the postcontact territory of the S'Klallam. A postcontact S'Klallam village was located near Port Williams. Most of the human remains were collected from the surface, which might indicate a relatively recent age consistent with canoe or scaffold-type burials. Museum documentation indicates that one burial contained glass beads, which were not collected.

Officials of the American Museum of Natural History have determined that, pursuant to 25 U.S.C. 3001 (9-10), the human remains described above represent the physical remains of a minimum of 390 individuals of Native American ancestry. Officials of the American Museum of Natural History have also determined that, pursuant to 25 U.S.C. 3001 (3)(A), the 28 objects described above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Jamestown S'Klallam Tribe of Washington; Lower Elwha Tribal Community of the Lower Elwha Reservation, Washington; and Port Gamble Indian Community of the Port Gamble Reservation, Washington.

Representatives of any other Indian tribe that believes itself to be culturally affiliated with the human remains and associated funerary objects should contact Nell Murphy, Director of Cultural Resources, American Museum of Natural History, Central Park West at 79th Street, New York, NY 10024-5192, telephone (212) 769-5837 before August 16, 2004. Repatriation of the human remains and associated funerary objects to the Jamestown S'Klallam Tribe of Washington; Lower Elwha Tribal Community of the Lower Elwha Reservation, Washington; and Port Gamble Indian Community of the Port Gamble Reservation, Washington may proceed after that date if no additional claimants come forward.

The American Museum of Natural History is responsible for notifying the Jamestown S'Klallam Tribe of Washington; Lower Elwha Tribal Community of the Lower Elwha Reservation, Washington; Lummi Tribe of the Lummi Reservation, Washington; Nooksack Indian Tribe of Washington; Port Gamble Indian Community of the Port Gamble Reservation, Washington; Samish Indian Tribe, Washington; Stillaguamish Tribe of Washington; Swinomish Indians of the Swinomish Reservation, Washington; Tulalip Tribes of the Tulalip Reservation, Washington; and Upper Skagit Indian Tribe of Washington that this notice has been published.

Dated: May 28, 2004
John Robbins,
Assistant Director, Cultural Resources.

[FR Doc. 04-16151 Filed 7-15-04; 8:45 am]

BILLING CODE 4312-50-S